DEPARTMENT OF HEALTH AND HUMAN SERVICES

Health Resources and Services Administration

Agency Information Collection Activities: Proposed Collection: Public Comment Request: Information Collection Request Title: Evaluation of the Maternal and Child Health Bureau Pediatric Mental Health Care Access Program and the Screening and Treatment for Maternal Depression and Related Behavioral Disorders Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 6, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Evaluation of the Maternal and Child Health Bureau Pediatric Mental Health Care Access Program and the Screening and Treatment for Maternal Depression and Related Behavioral Disorders Program, OMB No. 0906-XXXX—New.

Abstract: This notice describes information collection requests for two of HRSA's Maternal and Child Health Bureau programs: the Pediatric Mental Health Care Access (PMHCA) Program and the Screening and Treatment for Maternal Depression and Related Behavioral Disorders (MDRBD) Program. Both of these programs aim to increase identification of behavioral health conditions by providing support for screening of specified populations (e.g., children, adolescents, young adults, and pregnant and postpartum women, especially those living in rural, isolated, and/or underserved areas); providing clinical behavioral health consultation, care coordination support (i.e., communication/collaboration, accessing resources, referral services), and training to health professionals (HPs); ¹ and increasing access to clinical interventions, including by telehealth.

¹ HPs may include pediatricians, family physicians, physician assistants, advanced practice nurses/nurse practitioners, licensed practical nurses, registered nurses, counselors, social workers, medical assistants, and patient care navigators.

Information will be collected from recipients of awards that were issued in 2018 (PMHCA and MDRBD), 2019 (PMHCA), and 2021 (PMHCA). The 2018, 2019, and 2021 PMHCA programs are authorized by 42 U.S.C. § 254c-19 (§ 330M of the Public Health Service Act), using Section 2712 of the American Rescue Plan Act of 2021 (Pub. L. 117-2) for 2021 awardees. The 2018 MDRBD program is authorized by 42 U.S.C. 247b-13a (§ 317L-1 of the Public Health Service Act). To evaluate progress made toward the programs' goals, this data collection will use eight instruments: the HP Survey, Practice-Level Survey, Program Implementation Survey, Program Implementation Semi-Structured Interview (SSI), Champion SSI, Champion Focus Group Discussion (FGD), Community Resources SSI, and Care Coordinator SSI.

Need and Proposed Use of the Information: This information is needed by HRSA to evaluate the PMHCA and MDRBD programs and guide future policy decisions regarding increasing HPs' capacity to address patients' behavioral health and access to behavioral health services. Specifically, data collected for the evaluation will be used to study the efforts of awardee programs to achieve key awardee outcomes (e.g., increase in access to behavioral health services; health professionals trained; available community-based resources, including counselors or family service providers) and to measure whether and to what extent awardee programs are associated with changes in these outcomes. The evaluation will also examine changes over time, within a state, political subdivision of a state, Indian tribe, or tribal organization, and/or across the PMHCA and MDRBD programs, with regard to (1) enrolled health professionals/practices related to screening, referral, and care coordination support for behavioral health conditions; (2) provision of behavioral health services for mental illness and substance use in primary care settings; (3) use of consultative services; and (4) provision of access to behavioral health services for mental illness and substance use.

Likely Respondents: Likely respondents include:

• HP Surveys (2021 PMHCA only): Pediatricians, family physicians, physician assistants, advanced practice nurses/nurse practitioners, licensed practical nurses, registered nurses, counselors, social workers, medical assistants, and patient care navigators.

• Practice-Level Surveys (2021 PMHCA only): Practice managers (e.g., office managers, office leadership, and nurse champions).

• Program Implementation Survey and SSI (2021 PMHCA only): 2021 PMHCA cooperative agreement-funded Project Directors/Principal Investigators.

• Champion SSI or FGD (all awardees): PMHCA and MDRBD program champions, who may include HPs, community and social service specialists, and others.

• Community Resources SSI (all awardees): PMHCA and MDRBD program-level community resource partner representatives, who may include counselors, social workers, other community and social service specialists, other HPs/support workers (e.g., patient care navigators, medical assistants), and practice/organization managers.

• Care Coordinator SSI (all awardees): PMHCA and MDRBD program-level care coordinators.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent ² | Total responses | Average burden per response (in hours) | Total burden hours
2021 PMHCA HP Survey | 8,029 | 3 | 24,087 | .25 | 6,021.75
2021 PMHCA Practice-Level Survey | 2,950 | 3 | 8,850 | .25 | 2,212.50
2021 PMHCA Program Implementation Survey | 24 | 3 | 72 | .33 | 23.76
2021 PMHCA Program Implementation SSI | 24 | 1 | 24 | 1.00 | 24.00
2021 PMHCA Champion SSI | 48 | 1 | 48 | .50 | 24
2021 PMHCA Champion FGD | 24 | 1 | 24 | 1.00 | 24
2021 PMHCA Community Resources SSI ³ | 50 | 1 | 50 | .50 | 25
2021 PMHCA Care Coordinator SSI | 24 | 2 | 48 | .50 | 24
2018/2019 PMHCA and 2018 MDRBD Champion SSI | 56 | 1 | 56 | .50 | 28
2018/2019 PMHCA and 2018 MDRBD Champion FGD | 28 | 1 | 28 | 1,00 | 28
2018/2019 PMHCA and 2018 MDRBD Community Resources SSI ³ | 50 | 1 | 50 | .50 | 25
2018/2019 PMHCA and 2018 MDRBD Care Coordinator SSI | 28 | 1 | 28 | .50 | 14
Total | 11,335 |  | 33,365 |  | 8,474.01

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

² The HP, practice-level, and program implementation surveys will be administered with enrolled/participating HPs, office managers/leadership of enrolled/participating practices, and project directors/principal investigators of the 2021 PMHCA cooperative-agreement funded programs three times during the project period (2023, 2024, and 2025) for a total of up to three responses per respondent. The 2021 PMHCA Program Implementation SSIs and the Champion SSIs and FGDs will be administered to 2021 PMHCA cooperative agreement-funded project directors/principal investigator and program champions once at the end of the data collection period. The 2021 PMHCA Care Coordinator SSI will be administered twice, once at the beginning of the data collection period and once at the end of the data collection period. The number of responses per respondent varies for the Care Coordinator SSI between the 2018 and 2019 PMHCA and 2018 MDRBD cooperative-agreement funded programs and the 2021 PMHCA cooperative-agreement funded program because the 2018 and 2019 cooperative-agreement programs will end in 2023 whereas the 2021 PMHCA cooperative agreement-funded programs will end in 2026.

³ The Community Resources SSI will be a case study with (1) up to 5 awardees who have identified up to 5 formal (i.e., there is a formal agreement, Memorandum of Understanding (MOU); Memorandum of Agreement (MOA); letter of support) community partnerships and (2) up to 5 awardees who have identified up to 5 informal (i.e., there is no formal agreement, MOU; MOA; letter of support) community partnership; there will be up to 25 respondents for each group (i.e., formal, informal) for a total N=50. The Community Resource SSIs will be administered for the 2018 and 2019 PMHCA and 2018 MDRBD cooperative-agreement funded programs at the end of the data collection period in Spring 2023 and for 2021 PMHCA cooperative agreement-funded program at the end of the data collection period in Fall 2025.

Maria G. Button,
Director, Executive Secretariat.

[FR Doc. 2022-14184 Filed 7-1-22; 8:45 am]

BILLING CODE 4165-15-P